DEPARTMENT OF HOMELAND SECURITY

Coast Guard

33 CFR Part 117

[Docket No. USCG-2012-0794]

Drawbridge Operation Regulation; Cape Fear River, Wilmington, NC

AGENCY: Coast Guard, DHS.

ACTION: Notice of temporary deviation from regulations.

SUMMARY: The Commander, Fifth Coast Guard District, has issued a temporary deviation from the regulation governing the operation of the Cape Fear River Memorial Bridge, at mile 26.8, over Cape Fear River, at Wilmington, NC. The deviation restricts the operation of the draw span to facilitate the structural repairs of the bridge.

DATES: This deviation is effective from 8 p.m. on September 26, 2012 until 5:30 a.m. on October 15, 2012.

ADDRESSES: Documents mentioned in this preamble as being available in the docket USCG-2012-0794 and are available online by going to http://www.regulations.gov, inserting USCG-2012-0794 in the “Keywords” box, and then clicking “Search”. This material is also available for inspection or copying the Docket Management Facility (M-30), U.S. Department of Transportation, West Building Ground Floor, Room W12-140, 1200 New Jersey Avenue SE., Washington, DC 20590, between 9 a.m. and 5 p.m., Monday through Friday, except Federal Holidays.

FOR FURTHER INFORMATION CONTACT: If you have questions on this rule, call or email Mr. Bill H. Brazier, Bridge Management Specialist, Fifth Coast Guard District, telephone (757) 398-6422, email Bill.H.Brazier@uscg.mil. If you have questions on reviewing the docket, call Renne V. Wright, Program Manager, Docket Operations, 202-366-9826.

SUPPLEMENTARY INFORMATION: The North Carolina Department of Transportation, who owns and operates this vertical lift bridge, has requested a temporary deviation to facilitate cable replacement on the structure.

Under the regular operating schedule, the bridge opens on signal as required by 33 CFR 117.5, except that under 33 CFR 117.822, the draw need not open for the passage of vessels from 8 a.m. to 10 a.m. on the second Saturday of July and from 7 a.m. to 11 a.m. on the first or second Sunday of November every year.

The Cape Fear River Memorial Bridge, at mile 26.8, at Wilmington, NC, has vertical clearances in the open and closed positions of 135 feet and 65 feet above mean high water, respectively.

Under this temporary deviation, the drawbridge will be closed to navigation beginning at 8 p.m. on September 26, 2012 until and including 5:30 a.m. on October 1, 2012, and again from 8 p.m. on October 10, 2012 until and including 5:30 a.m. on October 15, 2012. There are no alternate routes for vessels transiting this section of the Cape Fear River. The drawbridge will be unable to open in the event of an emergency.

Typical vessel traffic on the Cape Fear River includes a variety of vessels from freighters, tug and barge traffic, and recreational vessels. Vessels that can pass under the bridge without a bridge opening may continue to do so at anytime.

The Coast Guard has carefully coordinated the restrictions with commercial and recreational waterway users. The Coast Guard will inform all users of the waterway through our Local and Broadcast Notice to Mariners of the closure periods for the bridge so that vessels can arrange their transits to minimize any impacts caused by the temporary deviation.

In accordance with 33 CFR 117.35(e), the drawbridge must return to its regular operating schedule immediately at the end of the designated time period. This deviation from the operating regulations is authorized under 33 CFR 117.35.

Dated: August 14, 2012.
Waverly W. Gregory, Jr.,
Bridge Program Manager, Fifth Coast Guard District.

[FR Doc. 2012-20977 Filed 8-24-12; 8:45 am]

BILLING CODE 9110-04-P